DEPARTMENT OF TRANSPORTATION

Federal Aviation Administration

Notice of Availability of the Finding of No Significant Impact and Record of Decision for the Final Environmental Assessment (EA), Section 4(f) Evaluation, and Notice of Alaska National Interests Lands Conservation Act (ANILCA) Section 810 Evaluation for the Proposed Airport Improvement Project for the Barter Island Airport, Kaktovik, AK

AGENCY: Federal Aviation Administration (FAA), Department of Transportation (DOT).

ACTION: Notice of Availability of the Finding of No Significant Impact/Record of Decision.

SUMMARY: The FAA is announcing the availability of the Finding of No Significant Impact/Record of Decision (FONSI/ROD) for the Final EA, Section 4(f) Evaluation, and Notice of ANILCA Section 810 Evaluation for Barter Island Airport Improvement Project, Kaktovik, AK. The FONSI/ROD provides final agency determinations and approvals for the proposed development.

FOR FURTHER INFORMATION CONTACT: Leslie Grey, Environmental Protection Specialist, AAL-614, Federal Aviation Administration, Alaskan Region, Airports Division, 222 W. 7th Avenue #14, Anchorage, AK 99513-7504. Ms. Grey may be contacted during business hours at (907) 271-5453 (phone) and (907) 271-2851 (facsimile).

SUPPLEMENTARY INFORMATION: The FONSI/ROD is for the approval of actions for the construction of an airport, including a runway, runway safety area, an apron, airport access road, a relocated landfill and sewage lagoon, an access road to the relocated landfill and sewage lagoon, and closure of the existing landfill and sewage lagoon. The FONSI/ROD provides the final agency determinations and approvals for Federal actions by the FAA related to the selection of the alternative to meet the purpose and need for the action. The FONSI/ROD also includes required mitigation measures and conditions of approval. The FONSI/ROD indicates that the selected actions are consistent with existing environmental policies and objectives set forth in the National Environmental Policy Act (NEPA) of 1969, as amended, as well as other Federal and State statutes, and that the actions will not significantly affect the quality of the environment. The FAA's decision is based upon information contained in the Final EA, issued in January 2009, and on all other applicable documents available to the agency and considered by it, which constitutes the administrative record. The FAA's determinations are discussed in the FONSI/ROD, which was approved on March 16, 2009.

FONSI/ROD Availability and Review

Copies of the FONSI/ROD may be viewed during regular business hours at the following locations:

1. North Slope Borough Capital Improvement Project Office, 3000 C St., Suite 104, Anchorage, AK 99503. Laura Strand, Project Administrator, (907) 646-8274.

2. City of Kaktovik, Mayor's Office, P.O. Box 27, 2051 Barter Avenue, Kaktovik, Alaska 99747. Elizabeth Rexford, (907) 640-6313. Open: 8:30 a.m.-5 p.m. M-F.

3. North Slope Borough Village Liaison, P.O. Box 102, 4070 Hula Hula Avenue, Kaktovik, Alaska 99747. Nora Jane Burns, (907) 640-6128.

4. North Slope Borough Public Works, 1689 Okpik Street, Barrow, Alaska 99723. Sophia Amling, (907) 852-0271. Open: 8:30 a.m.-5 p.m. M-F.

The FONSI/ROD may also be viewed at the following Web site: http://www.faa.gov/airports_airtraffic/airports/environmental/records_decision/.

Issued in Anchorage, Alaska, on March 16, 2009.
Byron K. Huffman,
Manager, Federal Aviation Administration, Airports Division, Alaskan Region.

[FR Doc. E9-6747 Filed 3-25-09; 8:45 am]

BILLING CODE 4910-13-P